DEPARTMENT OF COMMERCE

National Oceanic and Atmospheric Administration

50 CFR Part 648

[I.D. 092501C]

Fisheries of the Northeastern United States; Northeast Multispecies Fishery

AGENCY: National Marine Fisheries Service (NMFS), National Oceanic and Atmospheric Administration (NOAA), Commerce.

ACTION: Notice of intent to prepare a Supplemental Environmental Impact Statement (SEIS); request for comments.

SUMMARY: The New England Fishery Management Council (Council) announces its intention to prepare an SEIS in accordance with the National Environmental Policy Act for Framework Adjustment 36 to the Northeast Multispecies Fishery Management Plan (FMP). The intent of this action is to reduce regulatory discards in the Gulf of Maine (GOM) cod fishery; address reductions in fishing mortality needed to ensure that the mortality objectives for Georges Bank (GB) cod, GB haddock, GB yellowtail flounder, GOM cod, and Southern New England (SNE) yellowtail flounder are achieved; allow tuna purse seine vessels access to the current closed areas; and expand the current Small Mesh Northern Shrimp Fishery Exemption Area.

DATES: Written comments on the intent to prepare the SEIS must be received on or before 5 p.m., local time, November 5, 2001.

ADDRESSES: Written comments should be sent to Paul J. Howard, Executive Director, New England Fishery Management Council, 50 Water Street, Mill 2, Newburyport, MA 01950. Comments may also be sent via fax to (978) 465-0492. Comments will not be accepted if submitted via e-mail or Internet.

FOR FURTHER INFORMATION CONTACT: Paul J. Howard, Executive Director, New England Fishery Management Council, (978) 465-0492.

SUPPLEMENTARY INFORMATION:

Background

Amendment 7 to the FMP (61 FR 27710, May 31, 1996) specifies a procedure for setting annual target total allowable catch (TAC) levels for GB cod, GB haddock, GB yellowtail flounder, GOM cod, SNE yellowtail flounder and an aggregate TAC for the remaining regulated multispecies. This procedure requires that the Council’s Multispecies Monitoring Committee (MSMC) annually review the best available scientific information, and recommend annual target TAC levels for these key groundfish stocks, as well as management options to achieve the FMP objectives.

Calculation of the annual TAC levels by the MSMC is based on the biological reference points of Fmax for GOM cod and F0.1 for the remaining stocks of cod, haddock, and yellowtail flounder. The MSMC also intends to estimate the TAC associated with F0.1 for GOM cod, since this is considered the more appropriate biological reference point by the MSMC and is expected to be incorporated into Amendment 13, which is currently under development by the Council.

For the 2001 fishing year, the MSMC developed recommendations for target TACs that were consistent with the rebuilding targets specified in Amendment 7. However, the status of GOM cod was not clear due to the difficulty in characterizing discards in the fishery in 1999 and 2000. The MSMC report for the 2001 fishing year noted that better estimates of the fishing mortality rate (F) in 1999 and 2000 for GOM cod would be available once results from the 33rd Stock Assessment Review Committee (SARC 33) were completed in June 2001.

Although the Council did not develop an annual adjustment framework for fishing year 2001, in response to the MSMC report and public comment concerning regulatory discards in the GOM cod fishery, the Council voted to make the January 2001 Council meeting the first framework (Framework 36) meeting for adjustment measures that would decrease regulatory discards of GOM cod.

At its initial framework meeting in January 2001 to address regulatory discards in the GOM cod fishery, the Council voted to maintain the fishing year 2000 management measures for GOM cod for the 2001 fishing year until additional information was available from SARC 33. Results from SARC 33 were presented to the Council at its July 2001 meeting. For the GOM cod fishery, SARC 33 advised that fishing mortality be reduced by approximately 63 percent to meet the Amendment 7 F target of Fmax=0.27. If this F value is achieved for GOM cod in 2002, then the above average 1998 year class will likely experience enhanced spawning potential.

In light of the SAW 33 advice, the Council tasked its Multispecies Oversight Committee to develop management options to reduce regulatory discards and address the fishing mortality reductions needed for the GOM cod fishery. Management measures considered by the Committee thus far include additional GOM closures and/or closure modifications, extension or adjustment to the Western GOM Closed Area, trip limit revisions, mesh-size increases, modifications to the days-at-sea accounting scheme, and equivalent measures to reduce recreational catch. Although the measures discussed to date focus on the GOM cod fishery, the Council also intends that this action be the annual adjustment for the 2002 fishery. Therefore, other management measures may also be developed to ensure that the Amendment 7 F objectives are reached for GB cod, GB haddock, GB yellowtail flounder, and SNE yellowtail flounder if so recommended by the MSMC.

However, given the complexity of this task and the magnitude of the required reductions in F and their associated impacts, the Council and NMFS have determined that significant impacts on the human environment may result, and preparation of an SEIS for this action will be necessary to examine the cumulative effects and consequences of the short-term measures on the human environment. In preparing the SEIS, the Council and NMFS will take into account, in addition to comments received in response to this document, all comments that have already been submitted and all discussions that have occurred in Council meetings before the publication of this document.

Authority: 16 U.S.C. 1801 et seq.

Dated: October 1, 2001.
Bruce C. Morehead,
Acting Director, Office of Sustainable Fisheries, National Marine Fisheries Service.

[FR Doc. 01-25036 Filed 10-4-01; 8:45 am]

BILLING CODE 3510-22-S